DEPARTMENT OF HEALTH AND HUMAN SERVICES

National Institutes of Health

National Cancer Institute; Amended Notice of Meeting

Notice is hereby given of a change in the meeting of the National Cancer Institute Special Emphasis Panel, February 27, 2007, 12 p.m. to February 27, 2007, 4 p.m., National Institutes of Health, 6130 Executive Blvd., Rockville, MD 20852 which was published in the Federal Register on December 28, 2006, 71 FR 78214.

The meeting notice is changed to reflect the change in the name of the committee from “SBIR Topic 230 (Phases I & II)” to “SBIR, Synthesis Stable Isotope-Labeled Steroids as Internal Standards.” The meeting is closed to the public.

Dated: January 23, 2007.
Anna Snouffer,
Acting Director, Office of Federal Advisory Committee Policy.

[FR Doc. 07-401 Filed 1-30-07; 8:45 am]

BILLING CODE 4140-01-M